DEPARTMENT OF THE INTERIOR

Bureau of Land Management

[AK-040-1410-00; AA-82056]

Realty Action; FLPMA Sec. 302 Permit, Innoko Mining District

AGENCY: Bureau of Land Management, Interior.

ACTION: Notice of realty action, permit of public land.

SUMMARY: North Star Exploration Inc. has submitted an application for authorization to explore and evaluate Native selected lands for hard rock mineral potential. North Star has entered a joint venture with Doyon Limited and MTNT Limited to assess the land and assure the best information possible to prioritize lands they have selected for conveyance.

The land has been examined and found suitable for permit under the provisions of Section 302 of the Federal Land Policy Management Act (FLPMA), of 1976, and 43 CFR Part 2920.

The proposed area is located at Yankee Creek within the Innoko Mining District (Ophir area) of Southwestern Alaska. The legal land description is as follows:

Seward Meridian, Alaska

T. 33 N., R. 37 W., Sec. 6

T. 33 N., R 38 W., Sec. 14

Containing 1 acre, more or less.

The permittee shall reimburse the United States for reasonable administrative fees and other costs incurred by the United States in processing the permit and for monitoring of construction, operation, maintenance and rehabilitation of the land authorized.

The reimbursement of cost shall be in accordinace with the provisions of 43 CFR 2920.6. The permit will be offered for a term of 2 years and will require the permittee to pay rent annually at no less than fair market value.

Detailed information concerning this action is available for review at the office of the Bureau of Land Management, Anchorage District Office, 6881 Abbott Loop Road, Anchorage, Alaska, 99507-2599.

DATES: Interested parties may submit comments until November 13, 2000 to the Field Manager, Anchorage Field Office, 6881 Abbott Loop Road, Anchorage, Alaska 99507-2599. In the absence of a timely objection, this proposal shall become the final decision of the Department of the Interior.

FOR FURTHER INFORMATION CONTACT: Shirley Rackley, Anchorage Field Office, Bureau of Land Management, 6881 Abbott Loop Road, Anchorage, Alaska, 99507-2599; (907) 267-1289 or (800) 478-1263.

Dated: September 20, 2000.
Peter Ditton,
Acting Field Manager.

[FR Doc. 00-24865 Filed 9-27-00; 8:45 am]

BILLING CODE 4310-JA-P